FEDERAL COMMUNICATIONS COMMISSION

47 CFR Part 73

[DA 05-573; MB Docket No. 05-85, RM-11164; MB Docket No. 05-86, RM-11165; and MB Docket No. 05-87, RM-11166]

Radio Broadcasting Services; Hennessey, OK; Odin, IL; and Spur, TX

AGENCY: Federal Communications Commission.

ACTION: Proposed rule.

SUMMARY: This document sets forth three proposals to amend the FM Table of Allotments, section 73.202(b) of the Commission's rules, 47 CFR 73.202(b). The Commission requests comment on a petition filed by Charles Crawford. Petitioner proposes the allotment of Channel 249A at Hennessey, Oklahoma, as a first local service. Channel 249A can be allotted at Hennessey in compliance with the Commission's minimum distance separation requirements with a site restriction of 5.2 km (3.2 miles) west of Hennessey. The proposed coordinates for Channel 249A at Hennessey are 36-06-09 North Latitude and 97-57-18 West Longitude. See SUPPLEMENTARY INFORMATION infra.

DATES: Comments must be filed on or before April 25, 2005, and reply comments on or before May 10, 2005.

ADDRESSES: Federal Communications Commission, Washington, DC 20554. In addition to filing comments with the FCC, interested parties should serve the designated petitioner as follows: Charles Crawford, 4553 Bordeaux Avenue, Dallas, Texas 75205; Jeraldine Anderson, 1702 Cypress Drive, Irving, Texas 75061.

FOR FURTHER INFORMATION CONTACT: Deborah A. Dupont, Media Bureau (202) 418-7072.

SUPPLEMENTARY INFORMATION: This is a synopsis of the Commission's Notice of Proposed Rule Making, MB Docket Nos. 05-85, 05-86, and 05-87, adopted March 2, 2005, and released March 4, 2005. The full text of this Commission decision is available for inspection and copying during normal business hours in the FCC Reference Information Center (Room CY-A257), 445 12th Street, SW., Washington, DC. The complete text of this decision may also be purchased from the Commission's copy contractor, Best Copy and Printing, Inc., 445 12th Street, SW., Room CY-B402, Washington, DC 20554, (800) 378-3160, or via the company's Web site, http://www.bcpiweb.com.

The Commission further requests comment on a petition filed by Charles Crawford. Petitioner proposes the allotment of Channel 288A at Odin, Illinois, as a first local service. Channel 288A can be allotted at Odin in compliance with the Commission's minimum distance separation requirements with a site restriction of 10.5 km (6.5 miles) east of Odin. The proposed coordinates for Channel 288A at Odin are 38-37-17 North Latitude and 88-55-53 West Longitude.

The Commission further requests comment on a petition filed by Jeraldine Anderson. Petitioner proposes the allotment of Channel 260C3 at Spur, Texas, as a second local service. Channel 260C3 can be allotted at Spur in compliance with the Commission's minimum distance separation requirements with a site restriction of 13.4 km (8.4 miles) west of Spur. The proposed coordinates for Channel 260C3 at Spur are 33-28-30 North Latitude and 101-00-00 West Longitude.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Illinois, is amended by adding Odin, Channel 288A.

3. Section 73.202(b), the Table of FM Allotments under Oklahoma, is amended by adding Hennessey, Channel 249A.

4. Section 73.202(b), the Table of FM Allotments under Texas, is amended by adding Channel 260C3 at Spur.

Federal Communications Commission.
John A. Karousos,
Assistant Chief, Audio Division, Media Bureau.

[FR Doc. 05-5317 Filed 3-16-05; 8:45 am]

BILLING CODE 6712-01-P